COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds product(s) to the Procurement List that will be furnished by nonprofit agencies employing persons who are blind or have other severe disabilities.

DATES: Date added to and deleted from the Procurement List: December 19, 2021.

ADDRESSES: Committee for Purchase From People Who Are Blind or Severely Disabled, 1401 S Clark Street, Suite 715, Arlington, Virginia 22202-4149.

FOR FURTHER INFORMATION CONTACT: Michael R. Jurkowski, Telephone: (703) 785-6404, or email CMTEFedReg@AbilityOne.gov.

SUPPLEMENTARY INFORMATION:

Additions

On 2/12/2021, 3/12/2021, 3/19/2021, 4/30/2021, 5/7/2021, 5/21/2021, and 5/28/2021, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) are added to the Procurement List:

Product(s)

NSN(s)—Product Name(s):

MR 13087—Set, Cookie Sheet, 3 Piece

MR 10796—Dish Rack, Compact, Includes Shipper 20796

MR 11136—Tablecloth, 3 Pack

MR 10792—Twin Juicer, Includes Shipper 20792

MR 10794—Mini Garden Colander, Includes Shipper 20794

MR 10788—Super Sifter, Includes Shipper 20788

MR 16400—Sunglasses, Women's Fashion

MR 16401—Sunglasses, Women's Aviator

MR 16402—Sunglasses, Polarized Assorted

MR 16403—Sunglasses, Metal Assorted

MR 16404—Sunglasses, Sport Assorted

MR 10809—Onion Saver, Includes Shipper 20809

MR 10798—Headlamp, Includes Shipper 20798

Designated Source of Supply: Winston-Salem Industries for the Blind, Inc., Winston-Salem, NC

Contracting Activity: Defense Commissary Agency

Mandatory For: The requirements of military commissaries and exchanges in accordance with the 41 CFR 51-6.4

Distribution: C-List

NSN(s)—Product Name(s):

MR 1194—Cleaning Cloth, DuraFresh, 2 Pack

MR 863—Lint Roller

MR 864—Lint Roller Refill

Designated Source of Supply: Alphapointe, Kansas City, MO

Contracting Activity: Defense Commissary Agency

Mandatory For: The requirements of military commissaries and exchanges in accordance with the 41 CFR 51-6.4

Distribution: C-List

NSN(s)—Product Name(s):

MR 11480—Dust Remover, Compressed Gas, 10 oz

Designated Source of Supply: The Lighthouse for the Blind, St. Louis, MO

Contracting Activity: Defense Commissary Agency

Mandatory For: The requirements of military commissaries and exchanges in accordance with the 41 CFR 51-6.4

Distribution: C-List

Michael R. Jurkowski,
Acting Director, Business Operations.

[FR Doc. 2021-25266 Filed 11-18-21; 8:45 am]

BILLING CODE 6353-01-P